LIBRARY OF CONGRESS

Copyright Office

[Docket No. 2012-10]

Extension of Comment Period: Resale Royalty Right

AGENCY: Copyright Office, Library of Congress.

ACTION: Extension of comment period.

SUMMARY: The Copyright Office is extending the period of public comment in response to its September 19, 2012 Notice of Inquiry requesting comments regarding issues relating to consideration of a federal resale royalty right.

DATES: Comments are due December 5, 2012.

ADDRESSES: All comments and reply comments shall be submitted electronically. A comment page containing a comment form is posted on the Office Web site at http://www.copyright.gov/docs/resaleroyalty. The Web site interface requires commenting parties to complete a form specifying name and organization, as applicable, and to upload comments as an attachment via a browser button. To meet accessibility standards, commenting parties must upload comments in a single file not to exceed six megabytes (MB) in one of the following formats: the Adobe Portable Document File (PDF) format that contains searchable, accessible text (not an image); Microsoft Word; WordPerfect; Rich Text Format (RTF); or ASCII text file format (not a scanned document). The form and face of the comments must include both the name of the submitter and organization. The Office will post the comments publicly on the Office's Web site exactly as they are received, along with names and organizations. If electronic submission of comments is not feasible, please contact the Office at 202-707-8350 for special instructions.

FOR FURTHER INFORMATION CONTACT: Jason Okai, Counsel, Office of Policy and International Affairs, by email at jokai@loc.gov or by telephone at 202-707-9444.

SUPPLEMENTARY INFORMATION: On September 19, 2012, the Copyright Office published a Notice of Inquiry inviting public comments on consideration of a federal resale royalty right. Due to the number and complexity of the issues raised in that Notice, it appears that some stakeholders may need additional time to respond. In order to facilitate full and adequate public comment, the Office hereby extends the time for filing additional comments to December 5, 2012.

Dated: October 10, 2012.
Maria A. Pallante,
Register of Copyrights.

[FR Doc. 2012-25370 Filed 10-15-12; 8:45 am]

BILLING CODE 1410-30-P